DEPARTMENT OF TRANSPORTATION

Federal Aviation Administration

14 CFR Part 95

[Docket No. 30787; Amdt. No. 494]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, June 30, 2011.

FOR FURTHER INFORMATION CONTACT: Harry Hodges, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on May 27, 2011.
John M. Allen,
Director, Flight Standards Service.

Adoption of the Amendment

Accordingly, pursuant to the authority delegated to me by the Administrator, part 95 of the Federal Aviation Regulations (14 CFR part 95) is amended as follows effective at 0901 UTC, June 30, 2011.

PART 95 [AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 494 effective date June 30, 2011]
From | To | MEA
§ 95.6001 Victor Routes—U.S.
§ 95.6003 VOR Federal Airway V3
IS AMENDED TO READ IN PART | #Vance, SC VORTAC | Florence, SC VORTAC | *2000
*2000—GNSS MEA
#Vance R-047 to COP Unusable BLO FL180 Except For Aircraft Equipped With Suitable RNAV.
§ 95.6004 VOR Federal Airway V4
IS AMENDED TO READ IN PART | Malad City, ID VOR/DME | Filob, ID FIX | 10900
Filob, ID FIX | Hodni, ID FIX | *12000
*10800—MOCA
*10800—GNSS MEA
Hodni, ID FIX | Grips, WY FIX | *16000
*11700—MOCA
*11700—GNSS MEA
Grips, WY FIX | Rock Springs, WY VOR/DME | *11000
*10000—MOCA
*10000—GNSS MEA
§ 95.6007 VOR Federal Airway V7
IS AMENDED TO READ IN PART | Chicago Heights, IL VORTAC | *Niles, IL FIX | 2500
*3500—MRA
*3000—MCA Niles, IL FIX, N BND
*Niles, IL FIX | **Laird, IL FIX | 3400
*3500—MRA
**2600—MCA Laird, IL FIX, S BND
Laird, IL FIX | Thorr, IL FIX | 2500
Thorr, IL FIX | Pappi, IL FIX | *2500
*1800—MOCA
Pappi, IL FIX | Talor, WI FIX | *4000
*1800—MOCA
Talor, WI FIX | Petty, WI FIX | *6000
*1900—MOCA
Petty, WI FIX | Proot, WI FIX | *4500
*1900—MOCA
§ 95.6045 VOR Federal Airway V45
IS AMENDED TO READ IN PART | Greensboro, NC VORTAC | *Prove, NC FIX | 2700
*3500—MCA Prove, NC FIX, NW BND
Prove, NC FIX | *Freon, NC FIX | 4300
*4800—MCA Freon, NC FIX, NW BND
Freon, NC FIX | Pulaski, VA VORTAC | 6200
§ 95.6092 VOR Federal Airway V92
IS AMENDED TO READ IN PART | Bebee, IL FIX | *Niles, IL FIX | 3400
*3500—MRA
*3000—MCA Niles, IL FIX, N BND
*Niles, IL FIX | Chicago Heights, IL VORTAC | 2500
*3500—MRA
§ 95.6097 VOR Federal Airway V97
IS AMENDED TO READ IN PART | Chicago Heights, IL VORTAC | *Niles, IL FIX | 2500
*3500—MRA
*3000—MCA Niles, IL FIX, N BND
*Niles, IL FIX | Bebee, IL FIX | 3400
*3500—MRA
§ 95.6157 VOR Federal Airway V157
IS AMENDED TO READ IN PART | Key West, FL VORTAC | *Famin, FL FIX | **5000
*5700—MRA
**1400—MOCA
**1500—GNSS MEA
*Famin, FL FIX | Dolphin, FL VORTAC | **5000
*5700—MRA
**1600—MOCA
**1800—GNSS MEA
#Vance, SC VORTAC | Florence, SC VORTAC | *2000
*2000—GNSS MEA
#Vance R-047 To Cop Unusable BLO FL180 Except for Aircraft Equipped with Suitable RNAV.
§ 95.6162 VOR Federal Airway V162
IS AMENDED TO READ IN PART | #East Texas, PA VOR/DME | #Allentown, PA VORTAC | 3000
#Allentown R-240 Unusable Below 9000 Use East Texas R-059
§ 95.6193 VOR Federal Airway V193
IS AMENDED TO READ IN PART | Musky, MI FIX | Pullman, MI VOR/DME | *3000
*2000—MOCA
Pullman, MI VOR/DME | Clock, MI FIX | *3000
*2400—MOCA
§ 95.6222 VOR Federal Airway V222
IS AMENDED TO READ IN PART | Logen, GA FIX | Corce, GA FIX | *4600
*3700—MOCA
§ 95.6225 VOR Federal Airway V225
IS AMENDED TO READ IN PART | Lee County, FL VORTAC | La Belle, FL VORTAC | *2000
*1500—MOCA
La Belle, FL VORTAC | Diddy, FL FIX | *2000
*1500—MOCA
§ 95.6325 VOR Federal Airway V325
IS AMENDED TO READ IN PART | Womac, GA FIX | Logen, GA FIX | *4600
*3700—MOCA
§ 95.6362 VOR Federal Airway V362
IS AMENDED TO READ IN PART | #Alma, GA VORTAC | Seybo, GA FIX | *5000
*1800—MOCA
*2000—GNSS MEA
#ALMA R-309 Unusable, Use Vienna R-127.
Seybo, GA FIX | Vienna, GA VORTAC | 2000
§ 95.6408 VOR Federal Airway V408
IS AMENDED TO READ IN PART | #East Texas, PA VOR/DME | #Allentown, PA VORTAC | 3000
#Allentown R-240 Unusable Below 9000 Use East Texas R-059
§ 95.6422 VOR Federal Airway V422
IS AMENDED TO READ IN PART | Bebee, IL FIX | *Niles, IL FIX | 3400
*3500—MRA
*3000—MCA Niles, IL FIX, N BND
*Niles, IL FIX | Chicago Heights, IL VORTAC | 2500
*3500—MRA
§ 95.6438 VOR Federal Airway V438
IS AMENDED TO READ IN PART | #Grantsville, MD VOR/DME | *Flint, MD FIX | 5300
*4300—MCA Flint, MD FIX, W BND
#Grantsville DME Unusable Beyond 20NM, Below 6000
Flint, MD FIX | Hagerstown, MD VOR | 4000

From | To | MEA | MAA
§ 95.7001 Jet Routes
§ 95.7079 Jet Route J79
IS AMENDED TO READ IN PART | #Key west, FL VORTAC | Dolphin, FL VORTAC | 18000 | 45000
#Key West R-037 Unusable
§ 95.8003 VOR Federal Airway Changeover Points Airway Segment V157

From | To | Changeover Points: Distance | Changeover Points: From
IS AMENDED TO ADD CHANGEOVER POINT | Vance, SC VORTAC | Florence, SC VORTAC | 21 | Vance
V3
IS AMENDED TO ADD CHANGEOVER POINT | Vance, SC VORTAC | Florence, SC VORTAC | 21 | Vance
V438
IS AMENDED TO ADD CHANGEOVER POINT | Grantsville, MD VOR/DME | Hagerstown, MD VOR | 39 | Grantsville

[FR Doc. 2011-14043 Filed 6-7-11; 8:45 am]

BILLING CODE 4910-13-P